DEPARTMENT OF ENERGY

Federal Energy Regulatory Commission

Combined Notice of Filings #1

Take notice that the Commission received the following electric corporate filings:

Docket Numbers: EC15-108-000.

Applicants: Ingenco Holdings, LLC, Ingenco Wholesale Power, L.L.C., Collegiate Clean Energy, LLC, CCI U.S. Asset Holdings LLC.

Description: Joint Application for Approval of the Disposition of Jurisdictional Facilities under Section 203 of the FPA of Ingenco Holdings, LLC, Ingenco Wholesale Power, L.L.C., Collegiate Clean Energy, LLC, and CCI U.S. Asset Holdings LLC.

Filed Date: 3/31/15.

Accession Number: 20150331-5765.

Comments Due: 5 p.m. ET 4/21/15.

Take notice that the Commission received the following electric rate filings:

Docket Numbers: ER12-1308-005.

Applicants: Palouse Wind, LLC.

Description: Supplement to March 2, 2015 Notice of Non-Material Change in Status of Palouse Wind, LLC.

Filed Date: 3/31/15.

Accession Number: 20150331-5751.

Comments Due: 5 p.m. ET 4/21/15.

Docket Numbers: ER14-2022-001.

Applicants: Midcontinent Independent System Operator, Inc.

Description: Request for Extension of Waiver of Midcontinent Independent System Operator, Inc.

Filed Date: 3/31/15.

Accession Number: 20150331-5769.

Comments Due: 5 p.m. ET 4/21/15.

Docket Numbers: ER15-117-004.

Applicants: ISO New England Inc., New England Power Pool Participants Committee.

Description: Compliance filing per 35: Compliance on ER15-117 to be effective 5/1/2015.

Filed Date: 4/1/15.

Accession Number: 20150401-5208.

Comments Due: 5 p.m. ET 4/22/15.

Docket Numbers: ER15-1413-000.

Applicants: Union Electric Company.

Description: Section 205(d) rate filing per 35.13(a)(2)(iii): Depreciation Rate Filing to be effective 6/1/2015.

Filed Date: 3/31/15.

Accession Number: 20150331-5590.

Comments Due: 5 p.m. ET 4/21/15.

Docket Numbers: ER15-1414-000.

Applicants: Southwest Power Pool, Inc.

Description: Section 205(d) rate filing per 35.13(a)(2)(iii): Revisions to the Aggregate Study Process to be effective 6/1/2015.

Filed Date: 3/31/15.

Accession Number: 20150331-5604.

Comments Due: 5 p.m. ET 4/21/15.

Docket Numbers: ER15-1415-000.

Applicants: PJM Interconnection, L.L.C., The Dayton Power and Light Company.

Description: Section 205(d) rate filing per 35.13(a)(2)(iii): Dayton Power & Light Company submits Service Agreement No. 4106 to be effective 4/1/2015.

Filed Date: 3/31/15.

Accession Number: 20150331-5609.

Comments Due: 5 p.m. ET 4/21/15.

Docket Numbers: ER15-1416-000.

Applicants: PJM Interconnection, L.L.C., The Dayton Power and Light Company.

Description: Section 205(d) rate filing per 35.13(a)(2)(iii): Dayton Power & Light Company submits Service Agreement No. 4105 to be effective 4/1/2015.

Filed Date: 3/31/15.

Accession Number: 20150331-5619.

Comments Due: 5 p.m. ET 4/21/15.

Docket Numbers: ER15-1417-000.

Applicants: New England Power Pool Participants Committee.

Description: Section 205(d) rate filing per 35.13(a)(2)(iii): April 2015 Membership Filing to be effective 3/1/2015.

Filed Date: 3/31/15.

Accession Number: 20150331-5620.

Comments Due: 5 p.m. ET 4/21/15.

Docket Numbers: ER15-1418-000.

Applicants: Adelanto Solar II, LLC.

Description: Baseline eTariff Filing per 35.1: Adelanto Solar II, LLC Application for Market-Based Rates to be effective 5/30/2015.

Filed Date: 3/31/15.

Accession Number: 20150331-5624.

Comments Due: 5 p.m. ET 4/21/15.

Docket Numbers: ER15-1419-000.

Applicants: Emera Maine.

Description: Compliance filing per 35: Order No. 676-H Compliance Filing and Request for Waiver to be effective 5/15/2015.

Filed Date: 3/31/15.

Accession Number: 20150331-5628.

Comments Due: 5 p.m. ET 4/21/15.

Docket Numbers: ER15-1420-000.

Applicants: Midcontinent Independent System Operator, Inc.

Description: Section 205(d) rate filing per 35.13(a)(2)(iii): 2015-03-31_Cancellation of Rate Schedule 35 ORCA to be effective 4/1/2015.

Filed Date: 3/31/15.

Accession Number: 20150331-5635.

Comments Due: 5 p.m. ET 4/21/15.

Docket Numbers: ER15-1421-000.

Applicants: Central Hudson Gas & Electric Corporation.

Description: Section 205(d) rate filing per 35.13(a)(2)(iii): Revision to FERC Rate Schedule 202 to be effective 3/6/2015.

Filed Date: 3/31/15.

Accession Number: 20150331-5642.

Comments Due: 5 p.m. ET 4/21/15.

Docket Numbers: ER15-1422-000.

Applicants: Central Hudson Gas & Electric Corporation.

Description: Section 205(d) rate filing per 35.13(a)(2)(iii): Interconnection Agreement Between the Central Hudson Gas to be effective 3/19/2015.

Filed Date: 4/1/15.

Accession Number: 20150401-5011.

Comments Due: 5 p.m. ET 4/22/15.

Docket Numbers: ER15-1423-000.

Applicants: NorthWestern Corporation.

Description: Section 205(d) rate filing per 35.13(a)(2)(iii): SA 666 Second Revised—NITSA with Suiza Dairy Group to be effective 7/1/2015.

Filed Date: 4/1/15.

Accession Number: 20150401-5224.

Comments Due: 5 p.m. ET 4/22/15.

Docket Numbers: ER15-1424-000.

Applicants: NorthWestern Corporation.

Description: Tariff Withdrawal per 35.15: Notice of Cancellation of SA 20-SD—EPC with enXco Development Corporation to be effective 4/2/2015.

Filed Date: 4/1/15.

Accession Number: 20150401-5229.

Comments Due: 5 p.m. ET 4/22/15.

Docket Numbers: ER15-1425-000.

Applicants: Sierra Pacific Power Company.

Description: Application of Sierra Pacific Power Company to terminate Firm Point-to-Point Transmission Service Agreements with Mt. Wheeler Power, Inc.

Filed Date: 3/31/15.

Accession Number: 20150331-5749.

Comments Due: 5 p.m. ET 4/21/15.

Docket Numbers: ER15-1426-000.

Applicants: Public Service Company of New Mexico.

Description: Section 205(d) rate filing per 35.13(a)(2)(iii): Modification of Real Power Loss Factor in OATT to be effective 6/1/2015.

Filed Date: 4/1/15.

Accession Number: 20150401-5266.

Comments Due: 5 p.m. ET 4/22/15.

Docket Numbers: ER15-1427-000.

Applicants: Calpine New Jersey Generation, LLC.

Description: Section 205(d) rate filing per 35.13(a)(2)(iii): Revised Annual Revenue Requirement to be effective 1/28/2015.

Filed Date: 4/1/15.

Accession Number: 20150401-5386.

Comments Due: 5 p.m. ET 4/22/15.

Docket Numbers: ER15-1428-000.

Applicants: MATL LLP.

Description: Informational Filing to implement Distribution Mechanism for Operational Penalties of MATL LLP.

Filed Date: 3/31/15.

Accession Number: 20150331-5764.

Comments Due: 5 p.m. ET 4/21/15.

Docket Numbers: ER15-1429-000.

Applicants: Emera Maine.

Description: Compliance filing per 35: Emera Maine Compliance Filing to be effective 6/1/2015.

Filed Date: 4/1/15.

Accession Number: 20150401-5474.

Comments Due: 5 p.m. ET 4/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2015.
Nathaniel J. Davis, Sr.,
Deputy Secretary.

[FR Doc. 2015-07929 Filed 4-6-15; 8:45 am]

BILLING CODE CODE 6717-01-P